DEPARTMENT OF HEALTH AND HUMAN SERVICES

Office of the Assistant Secretary for Administration and Management; Program Support Center; Statement of Organization, Functions and Delegations of Authority

This notice amends Part (P) of the Statement of Organization, Functions and Delegations of Authority of the Department of Health and Human Services (HHS), Office of the Assistant Secretary for Administration and Management (AJ), Program Support Center (PSC), as last amended at 60 FR 51480, November 28, 2007. This notice reflects organizational changes in the Program Support Center (P), Administrative Operations Service (PE). Specifically, it transfers the security and emergency service functions currently located within the Division of Property Management (PEC) to a new component, the Division of Security and Emergency Services (PEL); place the functions of the Division of PSC Business Operations (PEH) into the Office of Deputy Assistant Secretary for Program Support (PA) to improve accountability and increase overall organizational effectiveness; and make other changes that are reflective of AOS current functions and responsibilities. The changes are as follows:

I. Under Chapter P, Program Support Center, Section P.20 Functions, delete the paragraph titled “Administrative Operations Service (PE)” in its entirety and replace with the following:

Administrative Operations Service (PE)

Section PE.00 Mission: The mission of the Administrative Operations Service (AOS) is to provide high-quality administrative support services at competitive prices by capitalizing on its expertise and leveraging economies of scale. Major service areas in AOS include: property management, technical support, information technology including a wide array of information technology infrastructure support services; and other administrative and corporate support.

Section PE.10 Organization. The Administrative Operations Service (AOS) is headed by a Director who reports directly to the Director, Program Support Center. The AOS includes the following components:

1. Office of the Director (PEA).

2. Division of Technical Support (PEF).

3. Division of Property Management (PEC).

4. Information Technology Operations (PEK).

5. Division of Security and Emergency Services (PEL).

6. Division of Freedom of Information Act Operations (PEJ).

Section PE.20 Functions

Office of the Director (PEA): The Office of the Director, Administrative Operations Service (AOS) oversees the implementation of providing to HHS components and other Federal agencies nationwide administrative and technical services which include: (1) Building operations, surplus real property, leasing, security, property management, warehousing, logistics and space management services; (2) printing, duplicating and typesetting; (3) operation of reference libraries; (4) mail distribution and handling; (5) claims service for Public Health Service (PHS) components nationwide under specific statutory authorities; (6) acquisition services; (7) technical graphics and photography services; and (9) a wide range of telecommunications services.

Division of Technical Support (PEF): The Division of Technical Support (DTS) provides a variety of support services for the HHS and other customer components located within the Washington, D.C. Metropolitan Area and for components located in the HHS Regional Offices nationwide. These services include (1) voice, data, and video services, visual aids and graphic art services, photography services, library services, printing and reproduction, including operation of copy centers, mail and messenger services, and support services for conference room facilities; and (2) carries out printing management and records management responsibilities for the PSC.

Division of Property Management (PEC): The Division of Property Management (DPM) provides the following related services: (1) Building safety program, lease management, building management and operations, building alteration, repair and maintenance program; parking management, information/locator services; supply and inventory management; (2) provides shipping, receiving and laboring service and operates a property management and surplus property utilization and disposal system; and (3) on behalf of the Secretary, executes and implements the transfer of Federal surplus real property for public health purposes pursuant to sections 203(K) and (n) of the Federal Property and Administrative Services Act of 1949, as amended.

Division of Security and Emergency Services (PEL): The Division of Security and Emergency Services (DSES) provides overall leadership, direction, coordination and planning to improve security and emergency services. Specifically, (1) Establishes program goals, objectives, priorities and provides oversight as to their execution; (2) plans, directs, coordinates and evaluates program-wide management activities; (3) maintains effective relationships with HHS organizations, other Federal agencies, State and local governments and other public and private organizations concerned with providing security and assisting with emergencies; and (4) plans, directs and coordinates administrative management activities, i.e., budget, finance, personnel, procurements, redelegations of authority, emergency planning, training, and has responsibility related to awarding PSC contract funds.

1. Physical Security Branch (PEL1). The Physical Security Branch (PSB) develops, coordinates and administers DSES' physical security program to ensure the protection and safety of employees, customers, visitors and property at all locations within its purview. The Branch, in accordance with Federal requirements, governing redelegations of authority and customer agreements, provides physical security services and products for PSC and its customers. These services and products include: (1) Security assessments and mitigation/management solutions; (2) development of security program requirements, acquisition strategy, and administration of security contracts; (3) selection, installation and oversight of physical access control, intrusion detection and monitoring systems to include monitoring and maintenance; (4) provide oversight of certified contract guard services; (5) coordination of security and public safety responses to facility and occupant emergencies; (6) provide technical assistance and consultation regarding security matters related to new construction, build-outs and retrofits, bomb threats, suspicious objects, workplace violence, and crime prevention; and (7) manage DSES' HSPD-12 identification card issuance and physical access control programs.

2. The Personnel Security Branch (PEL2). The Personnel Security Branch (PSB) administers DSES' personnel security/suitability program in accordance with governing federal rules, regulations and policies: (1) Helps customers determine the sensitivity level of all positions within their employees' areas of responsibility, ensuring required background investigations are conducted; (2) establishes effective methods for consistent, timely, and equitable adjudicative determinations on all security/suitability cases involving employees and contractors; (3) address or refer loyalty or national security matters to the proper authority for evaluation and/or investigation; (4) in conjunction with the Office of Global Health Affairs provides support to administer foreign travel and foreign visitation approval and briefing programs for customers; and (5) provides personnel security consultation services; oversees the DSES' HSPD-12 enrollment and registration processes.

3. Emergency Services Branch (PEL3). The Emergency Services Branch (ESB) prepares employees and customers for emergencies and disasters before they manifest, as well as the agency's response during or after the event has occurred. This includes emergency notification, facility evacuation, emergency-response-management, continuity of operations (COOP) and business continuity planning (BCP), as well as reconstituting the enterprise at a fully operational level. Services include: (1) Preparation of emergency notification methodologies and systems; (2) evacuation planning; (3) development of communication plans and multi-agency coordination and incident command strategies; (4) formulation of continuity of operations (COOP) and business continuity plans; and (5) inventory, storage and maintenance of emergency supplies and materials planning, and the development and offering of training and exercise programs for emergency team members and volunteers.

4. Support Services Branch (PEL4). The Support Services Branch (SSB) provides leadership, policy guidance and supervision of DSES' budget and procurement operations. The major service areas include: (1) Technical and human resource requirements and associated cost determinations, (2) budget planning and execution; audit of DSES expenditures; (3) return on investment evaluations; (4) development of service level agreements and agency agreements; and (5) manages DSES' purchase card program, develops Division travel and training plans, and oversees the time and attendance approval process and performance management programs.

Division of Freedom of Information Act Operations (PEJ). The Division responds to all Freedom of Information Act (FOIA) requests for records generated by, and in the custody and control of, components within the Department of Health and Human Services (HHS) and the Program Support Center. Specifically, the Division: (1) Responds to all requests for records that involve more than one of HHS components and the PSC; (2) responds to all administrative appeals; (3) coordinates with the Office of General Counsel and the HHS component to resolve administrative appeals which result in litigation; and (4) provides FOIA training and consultation.

II. Under Chapter PA, Office of the Deputy Assistant Secretary for Program Support add the following new paragraph:

Performs overall business and financial management services for the PSC in the following areas: (1) Provides strategic business planning and reporting; (2) conducts business process re-engineering; (3) analyzes costs and manages price reviews to maintain competitiveness of PSC services; (4) manages PSC stakeholder relations and provides customer relations services; (5) prepares the PSC budget for presentation to and approval by the Board of Directors to the HHS Service and Supply Fund; (6) executes approved PSC budgets, issuing allowances as approved by the Deputy Assistant Secretary for Program Support, and consistent with funding levels approved by the Board; (7) coordinates arrangements of agency agreements funding for projects and functions; (8) coordinates the implementation of the Government Performance and Result Acts within the PSC; and (9) develops and directs communication and marketing campaigns for internal HHS stakeholders and PSC customers.

III. Delegations of Authority: All delegations and redelegations of authority to officers and employees of the Departmental components which were transferred to the Program Support Center, which were in effect immediately prior to this reorganization will be continued in effect with them or their successors, pending further delegation, provided they are consistent with this reorganization.

Dated: June 24, 2008.
Joe W. Ellis,
Assistant Secretary for Administration and Management.

[FR Doc. E8-15430 Filed 7-8-08; 8:45 am]

BILLING CODE 4160-17-M